DEPARTMENT OF EDUCATION

[CFDA No. 84.358A]

Small, Rural School Achievement Program

AGENCY: Office of Elementary and Secondary Education, Department of Education.

ACTION: Notice extending application deadline.

SUMMARY: Under the Small, Rural School Achievement (SRSA) Program, we will award grants on a formula basis to eligible local educational agencies (LEAs) to address the unique needs of rural school districts. In this notice, we are extending the deadline for eligible LEAs to apply for fiscal year (FY) 2004 funding under the program.

Application Deadline: All applications must be received electronically by August 6, 2004, 4:30 p.m. Eastern time.

SUPPLEMENTARY INFORMATION: On June 30, 2004, we published a notice in the Federal Register (69 FR 39443-39444) establishing a July 30, 2004 deadline for LEAs to apply for funding under the program. As discussed in that notice, some LEAs that are eligible for FY 2004 SRSA funding are considered already to have met the application deadline based on their previously submitted application and do not have to submit a new application to the Department to receive their FY 2004 SRSA grant awards. The Department's Web site at http://www.ed.gov/offices/OESE/ indicates which eligible LEAs must submit an application to receive a FY 2004 SRSA grant award.

We have been informed that some eligible LEAs are unable to meet the original July 30, 2004 deadline because of changes to the SRSA eligibility spreadsheets and for other reasons. In order to afford as many eligible LEAs as possible an opportunity to receive funding under this program, we are extending the application deadline until August 6, 2004, 4:30 p.m. Eastern time. We have already notified each State educational agency of this extension and have also posted the new application deadline on the Department's Web site.

An eligible LEA that is required to submit a new SRSA application in order to receive FY 2004 SRSA funding and that has not done so by the original application deadline may apply for funds by the deadline in this notice.

Electronic Submission of Applications: To receive its share of FY 2004 SRSA funding, an eligible LEA that is required to submit a new SRSA application and that has not done so must submit an electronic application to the Department by August 6, 2004, 4:30 p.m. Eastern time. Submission of an electronic application involves the use of the Department's Electronic Grant Application System (e-Application) available through the Department's e-GRANTS system.

You can access the electronic application for the SRSA Program at: http://e-grants.ed.gov.

Once you access this site, you will receive specific instructions regarding the information to include in your application.

The regular hours of operation of the e-Grants Web site are 6 a.m. Monday until 7 p.m. Wednesday; and 6 a.m. Thursday until midnight, Saturday (Washington, DC time). Please note that the system is unavailable on Sundays, Federal holidays, and after 7 p.m. on Wednesdays for maintenance (Washington, DC time).

FOR FURTHER INFORMATION CONTACT: Mr. Robert Hitchcock. Telephone: (202) 401-0039 or via Internet: reap@ed.gov.

If you use a telecommunications device for the deaf (TDD), you may call the Federal Information Relay Service (FIRS) at 1-800-877-8339.

Individuals with disabilities may obtain this notice in an alternative format (e.g., Braille, large print, audiotape, or computer diskette) on request to the contact person listed under FOR FURTHER INFORMATION CONTACT.

Electronic Access to This Document: You may view this document, as well as other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll-free, at 1-888-293-6498; or in the Washington DC, area at (202) 512-1530.

Note: The official version of this document is the document published in the Federal Register. Free Internet access to the official version of the Federal Register and the Code of Federal Regulations is available on GPO Access at: http://www.gpoaccess.gov/nara/index.html.

Program Authority: 20 U.S.C. 7345-7345b.

Dated: August 2, 2004.
Raymond J. Simon,
Assistant Secretary for Elementary and Secondary Education.

[FR Doc. 04-17861 Filed 8-3-04; 8:45 am]

BILLING CODE 4000-01-P